INTERNATIONAL TRADE COMMISSION

[Investigation Nos. 701-TA-405-406 and 408 and 731-TA-899-901 and 906-908 (Third Review)]

Hot-Rolled Steel Products From China, India, Indonesia, Taiwan, Thailand, and Ukraine

Determination

On the basis of the record ¹ developed in the subject five-year reviews, the United States International Trade Commission (“Commission”) determines, pursuant to the Tariff Act of 1930 (“the Act”), that revocation of the countervailing duty orders on hot-rolled steel products from India, Indonesia, and Thailand and the antidumping duty orders on hot-rolled steel products from China, India, Indonesia, Taiwan, Thailand, and Ukraine would be likely to lead to continuation or recurrence of material injury to an industry in the United States within a reasonably foreseeable time.²

¹ The record is defined in sec. 207.2(f) of the Commission's Rules of Practice and Procedure (19 CFR 207.2(f)).

² Commissioner Meredith M. Broadbent not participating.

Background

The Commission, pursuant to section 751(c) of the Act (19 U.S.C. 1675(c)), instituted these reviews on January 2, 2019 (84 FR 11) and determined on May 7, 2019 that it would conduct expedited reviews (84 FR 31099, June 28, 2019).

The Commission made these determinations pursuant to section 751(c) of the Act (19 U.S.C. 1675(c)). It completed and filed its determinations in these reviews on August 13, 2019. The views of the Commission are contained in USITC Publication 4942 (August 2019), entitled Hot-Rolled Steel Products from China, India, Indonesia, Taiwan, Thailand, and Ukraine Investigation Nos. 701-TA-405-406 and 408 and 731-TA-899-901 and 906-908 (Third Review).

By order of the Commission.
Issued: August 13, 2019.
Lisa Barton,
Secretary to the Commission.

[FR Doc. 2019-17693 Filed 8-16-19; 8:45 am]

BILLING CODE 7020-02-P